DEPARTMENT OF TRANSPORTATION

Federal Aviation Administration

Receipt of Noise Compatibility Program, San Antonio International Airport, San Antonio, TX

AGENCY: Federal Aviation Administration, DOT.

ACTION: Notice.

SUMMARY: The Federal Aviation Administration (FAA) announced that it is reviewing a proposed noise compatibility program that was submitted for the San Antonio International Airport under the provisions of Title 49, USC, Chapter 475 (hereinafter referred to as “Title 49”) and 14 CFR part 150 by the City of San Antonio, Texas. This program was submitted subsequent to a determination by the FAA that associated noise exposure maps submitted under 14 CFR part 150 for the San Antonio International Airport were in compliance with applicable requirements effective January 16, 2002. The proposed noise compatibility program will be approved or disapproved on or before September 30, 2002.

EFFECTIVE DATE: The effective date of the start of FAA's review of the noise compatibility program is April 3, 2002. The public comment period ends June 2, 2002.

FOR FURTHER INFORMATION CONTACT: Ms. Nan L. Terry, Department of Transportation, Federal Aviation Administration, Texas Airports Development Office, Fort Worth, Texas, 76193-0650, (817) 222-5607. Comments on the proposed noise compatibility program should also be submitted to the above office.

SUPPLEMENTARY INFORMATION: This notice announces that the FAA is reviewing a proposed noise compatibility program for the San Antonio International Airport that will be approved or disapproved on or before September 30, 2002. This notice also announces the availability of this program for public review and comment.

An airport operator who has submitted noise exposure maps that are found by FAA to be in compliance with the requirements of the Federal Aviation Regulations (FAR) part 150, promulgated pursuant to Title 49, may submit a noise compatibility program for FAA approval which sets forth the measures the operator has taken or proposes for the reduction of existing noncompatible uses and for the prevention of the introduction of additional noncompatible uses.

The FAA has formally received the noise compatibility program for the San Antonio International Airport, effective on April 3, 2002. It was requested that the FAA review this material and that the noise mitigation measures, to be implemented jointly by the airport and surrounding commuties, be approved as a noise compatibility program under Title 49. Preliminary review of the submitted material indicates that it conforms to the requirements for the submittal of noise compatibility programs, but that further review will be necessary prior to approval or disapproval of the program. The formal review period, limited by law to a maximum of 180 days, will be completed on or before September 30, 2002.

The FAA's detailed evaluation will be conducted under the provisions of 14 CFR part 150, section 150.33. The primary consideration in the evaluation process are whether the proposed measures may reduce the level of aviation safety, create an undue burden in interstate or foreign commerce, or be reasonably consistent with obtaining the goal of reducing existing noncompatible land uses and preventing the introduction of additional noncompatible land uses.

Interested persons are invited to comment on the proposed program with specific reference to these factors. All comments, other than those properly addressed to local land use authorities, will be considered by the FAA to the extent practicable. Copies of the noise exposure maps, the FAA's evaluation of the maps, and the proposed noise compatibility program are available for examination at the following locations:

Federal Aviation Administration, Airports Division, 2601 Meacham Boulevard, Fort Worth, Texas 76137.

City of San Antonio, Aviation Department, 9800 Airport Boulevard, San Antonio, Texas 78216.

Questions may be directed to the individual named above under the heading, FOR FURTHER INFORMATION CONTACT.

Issued in Fort Worth, Texas, April 3, 2002.
Naomi L. Saunders,
Manager, Airports Division.

[FR Doc. 02-9126 Filed 4-15-02; 8:45 am]

BILLING CODE 4910-13-M